DEPARTMENT OF JUSTICE

Notice of Lodging of Consent Decree Under the Sections 309(b) and 311(b) of the Clean Water Act

Notice is hereby given that on June 8, 2000 a proposed Consent Decree (“Decree”) in United States v. Southern Pacific Transportation Co. et al., Civil Action No. 97-WM-469 (D. Colo.), was lodged with the United States District Court for the District of Colorado. The United States filed this action pursuant to sections 309(b) and 311(b) of the Clean Water Act (the “Act”), 33 U.S.C. 1319(b) and 1321(b), for civil penalties and injunctive relief for violations of Sections 301(a)/402(a) and 311(b) of the Act, 33 U.S.C. 1311(a)/1342(a) & 1321(b), arising from eight separate incidents in Colorado and Utah. All but one of the incidents were associated with freight train wrecks. The violations concern spills of diesel fuel from ruptured or leaking locomotive fuel tanks. Two of the eight incidents also involved a spill of an additional pollutant (taconite) or hazardous substance (sulfuric acid) from hoppers/tank cars.

As part of the settlement UP will pay a civil penalty in the amount of $800,000. In addition, UP will undertake injunctive relief which includes: (a) A requirement that all freight locomotives UP purchases during the next five years be equipped with fuel tanks meeting a new industry standard for crash-worthiness; (b) implementation of a comprehensive rock fall equipped with fuel tanks meeting a new industry standard for crash-worthiness; (c) implementation of a comprehensive rock fall hazard mitigation project; (d) installation of locomotive fuel tank patch kits on hi-rail vehicles and training the operators of such vehicles; (e) preparation of emergency response contingency plans for the Colorado River in Colorado and Utah, the Gunnison River in Colorado, and the Spanish For River in Utah along which UP's track is aligned; and (e) other relief.

The Department of Justice will receive for a period of thirty (30) days from the date of this publication comments relating to the Decree. Comments should be addressed to the Assistant Attorney General of the Environment and Natural Resources Division, Department of Justice, Washington, DC 20530, and should refer to, United States v. Southern Pacific Transportation Company et al., Civil Action No. 97-WM-469 (D. Colo.) and D.J. Ref. #90-5-1-1-4381.

The Decree may be examined at the United States Department of Justice, Environment and Natural Resources Division, Denver Field Office, 999 18th Street, North Tower Suite 945, Denver, Colorado, 80202. A copy of the Decree may also be obtained by mail from the Department of Justice Consent Decree Library, 13th Floor, 1425 New York Avenue, NW, Washington, DC 20005. In requesting a copy, please enclose a check in the amount of $15.50 for the Decree (25 cents per page reproduction cost) payable to the Consent Decree Library.

Joel M. Gross,
Chief, Environmental Enforcement Section, Environment and Natural Resources Division.

[FR Doc. 00-15589 Filed 6-20-00; 8:45 am]

BILLING CODE 4410-15-M